DEPARTMENT OF TRANSPORTATION

National Highway Traffic Safety Administration

49 CFR Part 541

[Docket No. NHTSA-2016-0073]

Final Theft Data; Motor Vehicle Theft Prevention Standard

AGENCY: National Highway Traffic Safety Administration (NHTSA), Department of Transportation.

ACTION: Publication of 2014 final theft data.

SUMMARY: This document publishes the final data on thefts of model year (MY) 2014 passenger motor vehicles that occurred in calendar year (CY) 2014, including theft rates for existing passenger motor vehicle lines manufactured in model year (MY) 2014.

DATES: Effective date: June 21, 2017.

FOR FURTHER INFORMATION CONTACT: Ms. Deborah Mazyck, Office of International Policy, Fuel Economy and Consumer Programs, NHTSA, 1200 New Jersey Avenue SE., Washington, DC 20590. Ms. Mazyck's telephone number is (202) 366-4139. Her fax number is (202) 493-2990.

SUPPLEMENTARY INFORMATION: NHTSA administers a program for reducing motor vehicle theft. The central feature of this program is the Federal Motor Vehicle Theft Prevention Standard, 49 CFR part 541. The standard specifies performance requirements for inscribing and affixing vehicle identification numbers (VINs) onto certain major original equipment and replacement parts of high-theft lines of passenger motor vehicles.

The agency is required by 49 U.S.C. 33104(b)(4) to periodically obtain, from the most reliable source, accurate and timely theft data and publish the data for review and comment. To fulfill this statutory mandate, NHTSA has published theft data annually beginning with MYs 1983/84. Continuing to fulfill the section 33104(b)(4) mandate, this document reports the final theft data for CY 2014, the most recent calendar year for which data are available.

In calculating the 2014 theft rates, NHTSA followed the same procedures it used in calculating the MY 2013 theft rates. (For 2013 theft data calculations, see 80 FR 72929, November 23, 2015). As in all previous reports, NHTSA's data were based on information provided to NHTSA by the National Crime Information Center (NCIC) of the Federal Bureau of Investigation. The NCIC is a government system that receives vehicle theft information from nearly 23,000 criminal justice agencies and other law enforcement authorities throughout the United States. The NCIC data also include reported thefts of self-insured and uninsured vehicles, not all of which are reported to other data sources.

The 2014 theft rate for each vehicle line was calculated by dividing the number of reported thefts of MY 2014 vehicles of that line stolen during calendar year 2014 by the total number of vehicles in that line manufactured for MY 2014, as reported to the Environmental Protection Agency (EPA).

The final 2014 theft data show a slight decrease in the vehicle theft rate when compared to the theft rate experienced in MY/CY 2013. The final theft rate for MY 2014 passenger vehicles stolen in calendar year 2014 decreased to 1.1512 thefts per thousand vehicles produced, a decrease of 0.43 percent from the rate of 1.1562 thefts per thousand vehicles experienced by MY 2013 vehicles in CY 2013.

For MY 2014 vehicles, out of a total of 235 vehicle lines, five lines had a theft rate higher than 3.5826 per thousand vehicles, the established median theft rate for MYs 1990/1991. (See 59 FR 12400, March 16, 1994). Of the five vehicle lines with a theft rate higher than 3.5826, four are passenger car lines, one is a multipurpose passenger vehicle line, and none are light-duty truck lines.

The MY 2014 theft rate reduction is consistent with the general decreasing trend of theft rates over the past several years as indicated by Figure 1. A statistical compilation of stolen vehicle data from various vehicle theft monitoring agencies show that passenger motor vehicle theft is trending downward. A similar decreasing trend in vehicle thefts was reported in the FBI 2014 Uniform Crime Report showing a 1.5% reduction in motor vehicle thefts (automobiles, trucks, buses and other vehicles) from 2013 to 2014. Overall, as indicated by Figure 1, theft rates have continued to show a downward trend since MY/CY 1993, with periods of very moderate increases from one year to the next.

On Tuesday, September 20, 2016, NHTSA published the preliminary theft rates for CY 2014 passenger motor vehicles in the Federal Register (80 FR 46930). The agency tentatively ranked each of the MY 2014 vehicle lines in descending order of theft rate. The public was requested to comment on the accuracy of the data and to provide final production figures for individual vehicle lines. As a result of the adjustments, some of the final theft rates and rankings of vehicle lines changed from those published in the September 2015 notice. The agency received a written comment from Volkswagen Group of America, Inc. (Volkswagen).

In its comment, Volkswagen informed the agency that the production volume listed for the Volkswagen Tiguan was incorrect. In response to this comment, the production volume for the Volkswagen has been corrected and the final theft data has been revised accordingly. As a result of the correction, the Volkswagen Tiguan previously ranked No. 38 with a theft rate of 1.7563 is now ranked No. 99 with a theft rate of 0.8068.

Further review of the preliminary theft list revealed that the numbering sequence of the vehicle lines was incorrect. Specifically, the listing erroneously omitted the sequence row for vehicle No. 234. The final theft data has been revised to reflect the correct numbering sequence. As a result of the changes in the numbering sequence, the theft data reflects 235 vehicles instead of 236 vehicles for MY 2014.

The following list represents NHTSA's final calculation of theft rates for all 2014 passenger motor vehicle lines. This list is intended to inform the public of calendar year 2014 motor vehicle thefts of model year 2014 vehicles and does not have any effect on the obligations of regulated parties under 49 U.S.C. Chapter 331, Theft Prevention.

Issued in Washington, DC, under authority delegated in 49 CFR 1.95.
Raymond R. Posten,
Associate Administrator for Rulemaking.

[FR Doc. 2017-12883 Filed 6-20-17; 8:45 am]

BILLING CODE 4910-59-P